DEPARTMENT OF ENERGY

Federal Energy Regulatory Commission

[Docket No. EG01-213-000, et al.]

CinCap IX, LLC, et al. Electric Rate and Corporate Regulation Filings

May 18, 2001.

Take notice that the following filings have been made with the Commission:

1. CinCap IX, LLC

[Docket No. EG01-213-000]

Take notice that on May 16, 2001, CinCap IX, LLC tendered for filing with the Federal Energy Regulatory Commission (Commission), an application for determination of exempt wholesale generator status pursuant to section 32(a)(1) of the Public Utility Holding Company Act of 1935, as amended. The applicant is a limited liability company that will be engaged directly or indirectly and exclusively in the business of developing and ultimately owning and/or operating an approximately 88 megawatt gas-fired electric generating facility located in Erlanger, Kenton County, Kentucky and selling electric energy at wholesale.

Comment date: June 8, 2001, in accordance with Standard Paragraph E at the end of this notice. The Commission will limit its consideration of comments to those that concern the adequacy or accuracy of the application.

2. National Grid USA

[Docket No. EL01-80-000]

Take notice that on May 15, 2001, National Grid USA (National Grid) tendered for filing with the Federal Energy Regulatory Commission (Commission), a Petition for Declaratory Order declaring that National Grid will not be deemed a “market participant” as defined in section 35.34(b) of the Commission's Regulations with respect to the region served by the Alliance RTO. National Grid states that, since the Alliance RTO will be an independent transmission company controlled and managed by a Managing Member that is not a market participant, National Grid should therefore be eligible to be a candidate for the Managing Member of the Alliance RTO.

Comment date: June 14, 2001, in accordance with Standard Paragraph E at the end of this notice.

3. Portland General Electric Company

[Docket No. ES01-33-000]

Take notice that on May 15, 2001, Portland General Electric Company submitted an application pursuant to section 204 of the Federal Power Act seeking authorization to issue short-term debt with not more than $450 million outstanding at any one time.

Comment date: June 8, 2001, in accordance with Standard Paragraph E at the end of this notice.

4. Avista Corporation

[Docket No. ER01-2044-000]

Take notice that on May 15, 2001, Avista Corporation tendered for filing a Service Agreement assigned Rate Schedule FERC No. 65, previously filed with the Federal Energy Regulatory Commission by Avista Corporation, formerly known as The Washington Water Power Company, under the Commission's Docket No. ER98-1141-000 with Engage Energy US, L.P. is to be terminated, effective May 14, 2001 by the request of El Paso Merchant Energy, L.P. per its letter dated May 4, 2001.

Comment date: June 5, 2001, in accordance with Standard Paragraph E at the end of this notice.

5. New York State Electric & Gas Corporation

[Docket Nos. ER01-2045-000 and ER99-221-004]

Take notice that on May 15, 2001, New York State Electric & Gas Corporation (NYSEG) tendered for filing a notice of status change with the Commission in connection with the pending merger between Energy East Corporation and RGS Energy Group, Inc. (RGS). NYSEG also tendered for filing proposed changes to its FERC Electric Services Tariff (Tariff) and Statement of Policy and Standards of Conduct (Standards of Conduct). As a consequence of the proposed merger, NYSEG modified its Tariff and Standards of Conduct to incorporate RGS's affiliates as affiliates of NYSEG for purposes of transactions under the market-based FERC Electric Services Tariff.

Comment date: June 5, 2001, in accordance with Standard Paragraph E at the end of this notice.

6. NYSEG Solutions, Inc.

[Docket Nos. ER01-2046-000 and ER99-220-007]

Take notice that on May 15, 2001, NYSEG Solutions, Inc. (NYSEG Solutions) filed a notice of status change with the Commission in connection with the pending merger between Energy East Corporation and RGS Energy Group, Inc. (RGS). NYSEG Solutions also tendered for filing proposed changes to its FERC Electric Services Tariff (Tariff) and Statement of Policy and Standards of Conduct (Standards of Conduct). As a consequence of the proposed merger, NYSEG Solutions modified its Tariff and Standards of Conduct to incorporate RGS's affiliates as affiliates of NYSEG Solutions for purposes of transactions under the market-based FERC Electric Services Tariff.

Comment date: June 5, 2001, in accordance with Standard Paragraph E at the end of this notice.

7. South Glens Falls Energy, LLC

[Docket Nos. ER01-2047-000 and ER00-262-003]

Take notice that on May 15, 2001, South Glens Falls Energy, LLC (South Glens Falls) tendered for filing a notice of status change with the Commission in connection with the pending merger between Energy East Corporation and RGS Energy Group, Inc. (RGS). South Glens Falls also tendered for filing proposed changes to its FERC Electric Services Tariff (Tariff) and Statement of Policy and Standards of Conduct (Standards of Conduct). As a consequence of the proposed merger, South Glens Falls modified its Tariff and Standards of Conduct to incorporate RGS's affiliates as affiliates of South Glens Falls for purposes of transactions under the market-based FERC Electric Services Tariff.

Comment date: June 5, 2001, in accordance with Standard Paragraph E at the end of this notice.

8. Carthage Energy, LLC

[Docket Nos. ER01-2048-000 and ER99-2541-002]

Take notice that on May 15, 2001, Carthage Energy, LLC (Carthage Energy) tendered for filing a notice of status change with the Commission in connection with the pending merger between Energy East Corporation and RGS Energy Group, Inc. (RGS). Carthage Energy also tendered for filing proposed changes to its FERC Electric Services Tariff (Tariff) and Statement of Policy and Standards of Conduct (Standards of Conduct). As a consequence of the proposed merger, Carthage Energy modified its Tariff and Standards of Conduct to incorporate RGS's affiliates as affiliates of Carthage Energy for purposes of transactions under the market-based FERC Electric Services Tariff.

Comment date: June 5, 2001, in accordance with Standard Paragraph E at the end of this notice.

9. Pinnacle West Energy Corporation

[Docket No. ER01-2049-000]

Take notice that on May 15, 2001, Pinnacle West Energy Corporation (PWE) tendered for filing an umbrella service agreement under PWE's market-based rate electric tariff, FERC Electric Tariff, Volume No. 1, between PWE and Pinnacle West Capital Corporation.

Comment date: June 5, 2001, in accordance with Standard Paragraph E at the end of this notice.

10. Idaho Power Company

[Docket No. ER01-2050-000]

Take notice that on May 15, 2001, Idaho Power Company tendered for filing with the Federal Energy Regulatory Commission a Service Agreement under Idaho Power Company's FERC Electric Tariff No. 6, Market Rate Power Sales Tariff, between Idaho Power Company and the Department of Energy, Western Area Power Administration.

Comment date: June 5, 2001, in accordance with Standard Paragraph E at the end of this notice.

11. Portland General Electric Company

[Docket Nos. ER01-2051-000 and ER98-1643-003]

Take notice that on May 15, 2001, Portland General Electric Company (PGE) tendered for filing as part of its FERC Electric Tariff, Fifth Revised Volume No. 11, proposed changes to Sheet No. 2, to become effective on April 26, 2001. The changes consist of removal of restrictions on the sale of power between PGE, on the one hand, and Sierra Pacific Power Company, Nevada Power Company, Sierra Pacific Energy Company, and Sierra Pacific Resources, on the other. The removal of these restrictions is based on the termination of the Asset Purchase Agreement, pursuant to which SPR would have acquired all issued and outstanding stock of PGE, a wholly-owned subsidiary of Enron Corp. The termination of this Asset Purchase Agreement was announced on April 26, 2001.

Copies of the filing were served upon all parties on the official service lists compiled by the Secretary of the Federal Energy Regulatory Commission in these proceedings.

Comment date: June 5, 2001, in accordance with Standard Paragraph E at the end of this notice.

12. Energetix, Inc.

[Docket Nos. ER01-2052-000 and ER97-3556-012]

Take notice that on May 15, 2001, Energetix, Inc. tendered for filing with the Commission a notification of change in status in connection with the pending merger between Energetix's parent corporation, RGS Energy Group, Inc., and Energy East Corporation (Energy East).

This filing includes a proposal to make certain changes to Energetix's market-based power sales tariff that will restrict Energetix's ability to sell or purchase energy and/or capacity to or from certain affiliates of Energy East.

Comment date: June 5, 2001, in accordance with Standard Paragraph E at the end of this notice.

13. Rochester Gas and Electric Corporation

[Docket Nos. ER01-2053-000 and ER98-3382-002]

Take notice that on May 15, 2001, Rochester Gas and Electric Corporation (RG&E) tendered for filing with the Commission a notification of change in status in connection with the pending merger between RG&E's parent corporation, RGS Energy Group, Inc., and Energy East Corporation (Energy East). This filing includes a proposal to make certain changes to RG&E's market-based power sales tariff that will restrict RG&E's ability to sell or purchase energy and/or capacity to or from affiliates of Energy East.

Comment date: June 5, 2001, in accordance with Standard Paragraph E at the end of this notice.

14. CinCap IX, LLC

[Docket No. ER01-2054-000]

Take notice that on May 15, 2001, CinCap IX, LLC tendered for filing an application for authorization to sell power and ancillary services at market-based rates, and to reassign transmission capacity.

Comment date: June 5, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13216 Filed 5-24-01; 8:45 am]

BILLING CODE 6717-01-P